DEPARTMENT OF AGRICULTURE

Animal and Plant Health Inspection Service

[Docket No. APHIS-2010-0026]

National Poultry Improvement Plan; General Conference Committee Meeting and 40th Biennial Conference

AGENCY: Animal and Plant Health Inspection Service, USDA.

ACTION: Notice of meeting.

SUMMARY: We are giving notice of a meeting of the General Conference Committee of the National Poultry Improvement Plan (NPIP) and the NPIP’s 40th Biennial Conference.

DATES: The General Conference Committee meeting will be held on August 31, 2010, from 8 a.m. to 11 a.m. The Biennial Conference will meet on September 1, 2010, from 8 a.m. to 5 p.m., and on September 2, 2010, from 8 a.m. to 12 p.m.

ADDRESSES: The General Conference Committee meeting and Biennial Conference will be held at the Manchester Grand Hyatt San Diego, One Market Place, San Diego, CA.

FOR FURTHER INFORMATION CONTACT: Mr. Andrew R. Rhorer, Senior Coordinator, National Poultry Improvement Plan, VS, APHIS, 1498 Klondike Road, Suite 101, Conyers, GA 30094-5104; (770) 922-3496.

SUPPLEMENTARY INFORMATION: The General Conference Committee (the Committee) of the National Poultry Improvement Plan (NPIP), representing cooperating State agencies and poultry industry members, serves an essential function by acting as liaison between the poultry industry and the Department in matters pertaining to poultry health. In addition, the Committee assists the Department in planning, organizing, and conducting the NPIP Biennial Conference. At the meetings and Biennial Conferences, the Committee discusses significant poultry health issues and makes recommendations to improve the NPIP program.

Tentative topics for discussion at the upcoming meetings include:

1. Salmonella enteritidis in meat-type chickens.

2. Salmonella isolation and identification protocol.

3. Notifiable avian influenza.

4. Avian mycoplasmosis.

The meetings will be open to the public. The sessions held on September 1 and 2, 2010, will include delegates to the NPIP Biennial Conference. However, due to time constraints, the public will not be allowed to participate in the discussions during either of the meetings. Written statements on meeting topics may be filed with the Committee before or after the meetings by sending them to the person listed under FOR FURTHER INFORMATION CONTACT. Written statements may also be filed at the meetings. Please refer to Docket No. APHIS-2010-0026 when submitting your statements.

This notice of meeting is given pursuant to section 10 of the Federal Advisory Committee Act (5 U.S.C. App. 2).

Done in Washington, DC, this 27th day of April 2010.

Kevin Shea
Acting Administrator, Animal and Plant Health Inspection Service.

[FR Doc. 2010-10278 Filed 4-30-10; 8:45 am]

BILLING CODE 3410-34-S